ENVIRONMENTAL PROTECTION AGENCY

[EPA-HQ-OPP-2023-0068; FRL-11029-01-OCSPP]

Agile Decision Sciences; Transfer of Data May 2023

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Agile Decision Sciences in accordance with the CBI regulations. Agile Decision Sciences has been awarded multiple contracts to perform work for OPP, and access to this information will enable Agile Decision Sciences to fulfill the obligations of the contract.

DATES: Agile Decision Sciences will be given access to this information on or before June 20, 2023.

FOR FURTHER INFORMATION CONTACT: William Northern, Information Technology and Resources Management Division (7502P), Office of Pesticide Programs, Environmental Protection Agency, 1200 Pennsylvania Ave. NW, Washington, DC 20460-0001; telephone number: (202) 566-1493 email address: northern.william@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-EPA-HQ-OPP-2023-0068, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-0294. Please review the visitor instructions and additional information about the docket available at https://www.epa.gov/dockets.

II. Contractor Requirements

Under contract number No. 68HERD23R0003, the contractor will perform the following: The contractor will provide support for OPP Docket to support and officially document an agency's rulemaking or other related activities. Those activities typically follow a three-step sequence in which the government first issues a draft of its proposed action, then receives public feedback on its proposal, and finally publishes a finished product. Dockets contain the Federal Register documents, supporting documentation and materials, and public comments associated with each of those steps. Agencies are required to use dockets in the development of regulatory actions. Most agencies, including EPA, also use them in other instances where there is a need to officially distribute information and/or solicit public input on their activities. The OPP Docket primary responsibilities are to provide support to rule writers and other docket owners in creating and populating dockets in the Federal Docket Management System (FDMS) and then post them to Regulations.gov (a cross-government public portal for docketing). Both FDMS and Regulations.gov are operated by the eRulemaking Program Management Office (PMO) within the General Services Administration (GSA). At different stages in this process, EPA/DC staff engage in activities such as customer service, training, sorting, digitizing, metadata indexing, quality assurance (QA), and records management.

This contract will involve no subcontractors.

OPP has determined that the contracts described in this document involve work that is being conducted in connection with FIFRA, in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contracts with Agile Decision Sciences, prohibits use of the information for any purpose not specified in these contracts; prohibits disclosure of the information to a third party without prior written approval from the Agency; and requires that each official and employee of the contractor sign an agreement to protect the information from unauthorized release and to handle it in accordance with the FIFRA Information Security Manual. In addition, Agile Decision Sciences is required to submit for EPA approval a security plan under which any CBI will be secured and protected against unauthorized release or compromise. No information will be provided to Agile Decision Sciences until the requirements in this document have been fully satisfied. Records of information provided to Agile Decision Sciences will be maintained by EPA Project Officers for these contracts. All information supplied to Agile Decision Sciences by EPA for use in connection with these contracts will be returned to EPA when Agile Decision Sciences has completed its work.

Authority: 7 U.S.C. 136 et seq.; 21 U.S.C. 301 et seq.

Dated: June 6, 2023.
Delores Barber,
Director, Information Technology and Resources Management Division, Office of Program Support.

[FR Doc. 2023-12496 Filed 6-9-23; 8:45 am]

BILLING CODE 6560-50-P